DEPARTMENT OF THE TREASURY

United States Mint

Renewal of Currently Approved Information Collection: Comment Request for Customer Satisfaction and Opinion Surveys, and Focus Group Interviews

AGENCY: United States Mint, Treasury.

ACTION: Notice and request for comments; extension of comment period.

SUMMARY: This document extends the comment period for a notice and request for comments that was published in the Federal Register on Monday, November 6, 2017. The notice and request for comments relates to the Paperwork Reduction Act of 1995, Public Law 104-13 (44 U.S.C. 3506(c)(2)(A)).

DATES: The comment period for the notice and request for comments published on Monday, November 6, 2017, (82 FR 51472, FR Doc. 2017-24087), is extended. Comments must be received on or before Friday, January 5, 2018.

ADDRESSES: Direct all written comments to Mary Ann Scharbrough, Records Officer, Office of the Director, United States Mint, 801 9th Street NW., Washington, DC 20220; (202) 384-5805 (this is not a toll-free number) mary.scharbrough@usmint.treas.gov.

FOR FURTHER INFORMATION CONTACT: Mary Ann Scharbrough, Records Officer, Office of the Director, United States Mint, 801 9th Street NW., Washington, DC 20220; (202) 384-5805 (this is not a toll-free number) mary.scharbrough@usmint.treas.gov.

SUPPLEMENTARY INFORMATION: A notice and request for comments that appeared in the Federal Register on Monday, November 6, 2017, (FR Doc. 2017-24087) announced that written comments are to be received by November 30, 2017. To provide the public with a sufficient opportunity to submit comments, the due date to receive written comments has been extended. Comments must be received on or before Friday, January 5, 2018.

Authority: Pursuant to 31 U.S.C. 5111, 5112, 5135, 5136, and 31 CFR part 92.

Dated: November 27, 2017.
David Motl,
Acting Deputy Director, United States Mint.

[FR Doc. 2017-26027 Filed 11-30-17; 8:45 am]

BILLING CODE 4810-37-P